DEPARTMENT OF EDUCATION

[Docket No.: ED-2023-SCC-0137]

Agency Information Collection Activities; Submission to the Office of Management and Budget for Review and Approval; Comment Request; Report of Dispute Resolution Under Part C of the Individuals With Disabilities Education Act

AGENCY: Office of Special Education and Rehabilitative Services (OSERS), Department of Education (ED).

ACTION: Notice.

SUMMARY: In accordance with the Paperwork Reduction Act (PRA) of 1995, the Department is proposing an extension without change of a currently approved information collection request (ICR).

DATES: Interested persons are invited to submit comments on or before November 6, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Amy Bae, 202-987-1557.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of Dispute Resolution Under Part C of the Individuals with Disabilities Education Act.

OMB Control Number: 1820-0678.

Type of Review: An extension without change of a currently approved ICR.

Respondents/Affected Public: State, local, and Tribal governments.

Total Estimated Number of Annual Responses: 56.

Total Estimated Number of Annual Burden Hours: 2,240.

Abstract: The Individuals with Disabilities Education Act (IDEA; Pub. L. 108-446) directs the Secretary of Education to obtain data on the dispute resolution process described in section 615 of the law. Specific legislative authority in section 618 of IDEA requires that:

“(a) IN GENERAL—Each State that receives assistance under this part, and the Secretary of the Interior, shall provide data each year to the Secretary of Education and the public on the following:

(1)(F) The number of due process complaints filed under section 615 and the number of hearings conducted.

(H) The number of mediations held, and the number of settlement agreements reached through such mediations”.

In addition to the specific data requirements described in section 618, section 616(a)(3)(B) of IDEA identifies the dispute resolution process as a monitoring priority. The law states specifically that:

“(3) MONITORING PRIORITIES—The Secretary shall monitor the States, and shall require each State to monitor the local educational agencies located in the State (except the State exercise of general supervisory responsibility), using quantifiable indicators in each of the following priority areas, and using such qualitative indicators as are needed to adequately measure performance in the following priority areas:

(B) State exercise of general supervisory authority, including child find, effective monitoring, the use of resolution sessions, mediation, voluntary binding arbitration, and a system of transition services as defined in sections 602(34) and 637(a)(9)”.

The data collection form provides instructions and information for States when submitting their dispute resolution data. The form collects data on the number of written, signed complaints; mediation requests; and hearing requests and the status of these actions initiated during the reporting year with regards to children served under part C of IDEA. The purposes of these data are to: (1) assess the progress, impact, and effectiveness of State and local efforts to implement the legislation and (2) provide Congress, the public, and Federal, State, and local educational agencies with relevant information. These data are used for monitoring activities, planning purposes, congressional reporting requirements, and dissemination to individuals and groups.

Dated: October 3, 2023.
Kun Mullan,
PRA Coordinator, Strategic Collections and Clearance, Governance and Strategy Division, Office of Chief Data Officer, Office of Planning, Evaluation and Policy Development.

[FR Doc. 2023-22283 Filed 10-5-23; 8:45 am]

BILLING CODE 4000-01-P